DEPARTMENT OF JUSTICE

Antitrust Division

Notice Pursuant to the National Cooperative Research and Production Act of 1993—National Spectrum Consortium

Notice is hereby given that, on August 13, 2019, pursuant to Section 6(a) of the National Cooperative Research and Production Act of 1993, 15 U.S.C. 4301 et seq. (“the Act”), National Spectrum Consortium (“NSC”) has filed written notifications simultaneously with the Attorney General and the Federal Trade Commission disclosing changes in its membership. The notifications were filed for the purpose of extending the Act's provisions limiting the recovery of antitrust plaintiffs to actual damages under specified circumstances. Specifically, Anokiwave, Inc., Billerica, MA; Wind Talker Innovations Inc., Fife, WA; Northern Arizona University, Flagstaff, AZ; Red Balloon Security, Inc., New York, NY; ComSovereign Corp., Tucson, AZ; Pacific Antenna Systems LLC, Camarillo, CA; Parallel Wireless, Inc., Nashua, NH; QuayChain, Inc., San Pedro, CA; Signal Processing Technologies, Inc., Merrimack, NH; Advanced Ground Information Systems, Inc., Jupiter, FL; Boeing Company, Arlington, VA; Phase Sensitive Innovations, Inc., Newark, DE; Northeastern University, Boston, MA; Blue Danube Systems, Inc., Santa Clara, CA; Fenix Group, Inc., Chantilly, VA; Skylark Wireless, LLC, Houston, TX; Raven Wireless, LLC, Chantilly, VA; RunSafe Security, Inc., McLean, VA; William Marsh Rice University, Houston, TX; SOLUTE, Inc., San Diego, CA; Beartooth Radio, Inc., Bozeman, MT; RAM Laboratories, Inc., San Diego, CA; GE Research, Niskayuna, NY; IQ-ANALOG, San Diego, CA; T-Mobile USA Inc., Washington, DC; Infinite Dimensions Integration, Inc., West Plains, MO; Ericsson, Inc., Plano, TX; Janus Communications, Irvine, CA; Verizon, Basking Ridge, NJ; Space Exploration Technologies Corp. (SpaceX), Hawthorne, CA; United Technologies Research Center (UTRC), East Hartford, CT; TrustComm, Inc., Stafford, VA; Epsilon Systems Solutions, Inc. San Diego, CA; Blackwatch International, McLean, VA; Cisco, San Jose, CA; Corvus Consulting, LLC, Centerville, VA; Veritech, LLC, Glendale, AZ; Solvaren, LLC, Wall, NJ; Peregrine Technical Solutions, LLC, Yorktown, VA; Antenna Research Associates, Incorporated, Beltsville, MD; Raven Defense Corporation, Albuquerque, NM; Armaments Research Company, Inc., Bethesda, MD; DataSoft Corporation, Tempe, AZ; Erebus Solutions Inc., Rochester, NY; NetApp, Inc., Sunnyvale, CA; Hughes Network Systems, LLC, Germantown, MD; RKF Engineering Solutions, LLC, Bethesda, MD; IAI, LLC, Chantilly, VA; and Mississippi State University, Mississippi State, MS, have been added as parties to this venture.

Also, Honeywell International, Inc., Morris Township, NJ; Systems & Processes Engineering Corp (SPEC), Austin, TX; AX Enterprize, LLC, Yorkville, NY; CIPHIR-TM, LLC, Albany, OR; Covariant Solutions, LLC, Gaithersburg, MD; DynamicSignals LLC, Lockport, IL; Guidestar Optical Systems, Inc., Longmont, CO; KAB Laboratories, Inc., San Diego, CA; Perceptix LLC, Washington, DC; San Diego State University Research Foundation, San Diego, CA; SCAN LLC, St. Louis, MO; Science Applications International Corporation (SAIC), Reston, VA; Tektronix, Inc., Beaverton, OR; Textron Systems Electronic Systems, Hunt Valley, MD; University of Alabama, Tuscaloosa, AL; University of Southern California Information Sciences Institute, Marina Del Ray, CA; Waveform Logic, Inc., Winter Park, FL; xG Technology, Sunrise, FL; Ziva Corporation, San Diego, CA; Worcester Polytechnic Institute, Worcester, MA; Giga-tronics, Incorporated, Dublin, CA; Global Ground Systems, LLC, Purcellville, VA; MIT Lincoln Laboratory, Lexington, MA; Battelle Energy Alliance, LLC, Idaho Falls, ID; NuWaves Engineering, Middletown, OH; George Mason University, Fairfax, VA; Long Wave, Inc., Oklahoma City, OK; Drexel University, Philadelphia, PA; and QRC Technologies, Fredericksburg, VA, have withdrawn as parties from this venture.

No other changes have been made in either the membership or planned activity of the group research project. Membership in this group research project remains open, and NSC intends to file additional written notifications disclosing all changes in membership.

On September 24, 2014, NSC filed its original notification pursuant to Section 6(a) of the Act. The Department of Justice published a notice in the Federal Register pursuant to Section 6(b) of the Act on November 4, 2014 (79 FR 65424).

The last notification was filed with the Department on January 28, 2019. A notice was published in the Federal Register pursuant to Section 6(b) of the Act on February 28, 2019 (84 FR 6822).

Suzanne Morris,
Chief, Premerger and Division Statistics Unit, Antitrust Division.

[FR Doc. 2019-19841 Filed 9-12-19; 8:45 am]

BILLING CODE 4410-11-P